NATIONAL AERONAUTICS AND SPACE ADMINISTRATION

[Notice: (20-040)]

Aerospace Safety Advisory Panel; Meeting.

AGENCY: National Aeronautics and Space Administration (NASA).

ACTION: Notice of meeting.

SUMMARY: In accordance with the Federal Advisory Committee Act, the National Aeronautics and Space Administration announces a forthcoming meeting of the Aerospace Safety Advisory Panel (ASAP).

DATES: Thursday, April 23, 2020, 12:00 p.m. to 1:15 p.m., Eastern Time.

ADDRESSES: This will be a virtual meeting via teleconference.

FOR FURTHER INFORMATION, CONTACT: Ms. Lisa M. Hackley, ASAP Administrative Officer, NASA Headquarters, Washington, DC 20546, (202) 358-1947 or lisa.m.hackley@nasa.gov.

SUPPLEMENTARY INFORMATION: The Aerospace Safety Advisory Panel (ASAP) will hold its Second Quarterly Meeting for 2020. This discussion is pursuant to carrying out its statutory duties for which the Panel reviews, identifies, evaluates, and advises on those program activities, systems, procedures, and management activities that can contribute to program risk. Priority is given to those programs that involve the safety of human flight. The agenda will include:

—Updates on the International Space Station Program

—Updates on the Commercial Crew Program

—Updates on Exploration System Development Program

—Updates on Human Lunar Exploration Program

This meeting is a virtual meeting, and only available telephonically. Any interested person may call the USA toll free conference call number 800-593-9979; pass code 8001361 and then the # sign. At the beginning of the meeting, members of the public may make a verbal presentation to the Panel on the subject of safety in NASA, not to exceed 5 minutes in length. To do so, members of the public must contact Ms. Lisa M. Hackley at lisa.m.hackley@nasa.gov or at (202) 358-1947 at least 48 hours in advance. Any member of the public is permitted to file a written statement with the Panel via electronic submission to Ms. Hackley at the email address previously noted. Verbal presentations and written statements should be limited to the subject of safety in NASA. It is imperative that the meeting be held on this date to accommodate the scheduling priorities of the key participants.

Patricia Rausch,
Advisory Committee Management Officer, National Aeronautics and Space Administration.

[FR Doc. 2020-06868 Filed 4-1-20; 8:45 am]

BILLING CODE 7510-13-P